DEPARTMENT OF THE INTERIOR

Bureau of Indian Affairs

[DR.5B711.IA000814]

Land Acquisitions; Mechoopda Indian Tribe of Chico Rancheria of California

AGENCY: Bureau of Indian Affairs, Interior.

ACTION: Notice of Final Agency Determination.

SUMMARY: The Assistant Secretary—Indian Affairs made a final agency determination to acquire approximately 626.55 acres of land in trust for the Mechoopda Indian Tribe of Chico Rancheria of California for gaming and other purposes on January 24, 2014.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On March 14, 2008, the Assistant Secretary—Indian Affairs first approved the trust acquisition of 626.55 acres of land in trust for the Mechoopda Indian Tribe of Chico Rancheria of California. Notice of that decision was published in the Federal Register on May 8, 2008. 73 FR 26142. The 2008 decision was challenged in the United States District Court for the District of Columbia by Butte County, California, and was ultimately remanded to the Department for reconsideration. On January 24, 2014, the Assistant Secretary—Indian Affairs issued a new decision to accept approximately 626.55 acres of land into trust for the Mechoopda Indian Tribe of Chico Rancheria of California under the authority of the Indian Reorganization Act of 1934, 25 U.S.C. 465. We have determined that the Mechoopda Indian Tribe of Chico Rancheria of California's request meets the requirements of the Indian Gaming Regulatory Act's “restored lands” exception, 25 U.S.C. 2719(b)(1)(B)(iii), to the general prohibition contained in 25 U.S.C. 2719(a) on gaming on lands acquired in trust after October 17, 1988.

The 626.55 acres are located in Butte County, California, and are described as follows:

Parcel I

All that portion of the east half of the northeast quarter of Section 1, Township 20 North, Range 2 East, M.D.B. & M., lying easterly of U.S. Highway 99E.

Excepting therefrom that portion thereof, heretofore conveyed to the State of California by deed recorded July 27, 1951, in Book 575, Page 326, Official Records, recorded October 9, 1974, in Book 1944, Page 64, Official Records and October 9, 1974, in Book 1944, Page 68, Official Records and Parcel 1 of the Grant Deed recorded January 15, 2004, under Butte County Recorder's Serial No. 2004-0002294. APN 041-190-048 (formerly 038-150-026).

Parcel II

The north half of the northwest quarter, the southwest quarter of the northwest quarter and the northwest quarter of the southwest quarter of Section 5, and all that portion of Section 6 lying northeasterly of the Oroville Chico Highway, all in Township 20 North, Range 3 East, M.D.B. & M.

Excepting therefrom said Section 6, that portion conveyed to the State of California by Deeds recorded February 8, 1951 in Book 555, Page 329, Official Records, and July 27, 1951, in Book 575, Page 326, Official Records.

Also excepting therefrom that portion conveyed to the State of California by Deed recorded October 9, 1974, in Book 1944, Page 64, Official Records and Parcel 1 of Grant Deed recorded January 15, 2004, under Butte County Recorder's Serial No. 2004-002294. APN 041-190-045 (formerly 041-190-020).

A copy of the decision dated January 24, 2014 is available at: http://www.indianaffairs.gov/cs/groups/webteam/documents/text/idc1-025066.pdf.

Dated: January 30, 2014.
Kevin K. Washburn,
Assistant Secretary—Indian Affairs.

[FR Doc. 2014-02439 Filed 2-4-14; 8:45 am]

BILLING CODE 4310-4N-P